DEPARTMENT OF STATE

[Public Notice 7869]

Notice of Availability of the Environmental Assessment and Request for Comments on Environmental Issues, and the National Interest Determination for the Vantage Pipeline Project

Vantage US LP has applied to the Department of State (DOS) for a Presidential Permit to construct and operate facilities at the border for a proposed pipeline carrying ethane from North Dakota to Canada. The DOS has released an Environmental Assessment (EA) that discusses the potential environmental impacts of the proposed Vantage Pipeline Project. This EA will be used by the DOS in its decision-making process to determine whether the project would serve the national interest and whether the applicant should receive a Presidential Permit. This notice announces the opening of the public comment process the DOS will use to gather input from the public on the proposed project. Your input will help the DOS determine the next steps in the environmental review of this project and whether the project would serve the national interest. The DOS is requesting comments on: (1) The EA, and (2) whether the Vantage Pipeline Project serves the national interest. Please note that the public comment period will close on June 2, 2012.

Summary of the Proposed Project

The proposed Vantage Pipeline Project would be an underground high vapor pressure pipeline that would carry liquid ethane from Tioga, North Dakota to Alberta, Canada. In the United States, Vantage proposes to construct and operate 79.8 miles of 10-inch-diameter ethane pipeline in Williams and Divide Counties, North Dakota. Aboveground, the project would include the installation of mainline valves at seven locations along the pipeline and the use of various ancillary facilities (e.g., access roads, yards).

The Vantage Pipeline would export ethane to Canada that is extracted from North Dakota-produced natural gas and compressed to a liquid form at an existing natural gas facility in North Dakota. The ethane that would be transported in the Vantage Pipeline is a flammable liquid that is non-corrosive, odorless, and colorless. It has similar characteristics to natural gas, the fuel that is used in furnaces to heat homes. Ethane is currently used as a petrochemical feedstock and is ultimately converted to plastics, anti-freeze, rubber, detergents, solvents, and like products. Vantage anticipates that the ethane transported through the proposed pipeline would be used for these purposes by the Alberta petrochemical industry. The Canadian National Energy Board approved the Canadian portion of the pipeline system on January 19, 2012.

The Presidential Permit Process

The Secretary of State is designated and empowered under Executive Order 13337 to receive all applications for Presidential permits for the construction, connection, operation, or maintenance at the borders of the United States, of facilities for the exportation or importation of petroleum, petroleum products, coal, or other liquid or solid fuels to or from a foreign country. As a part of the review of an application for a Presidential Permit, the Secretary of State must determine whether or not the project would be in the national interest. The determination of national interest involves consideration of many factors, which can include energy security, environmental, cultural, economic and foreign policy impacts. The EA that is the subject of this notification is considered in the national interest determination.

The Environmental Review Process

Consistent with the National Environmental Policy Act (NEPA) of 1969, as amended, regulations developed by the Council on Environmental Quality (40 CFR 1500), and DOS regulations for implementing NEPA (22 CFR 161), the DOS is undertaking an environmental review of the proposed pipeline in the United States. DOS now has issued an EA for the proposed Vantage Pipeline Project.

In the EA, the DOS discusses impacts that could occur as a result of the construction and operation and maintenance of pipeline facilities of natural gas liquids and also evaluates reasonable alternatives to the proposed project. The potential environmental impacts of the Project are based on currently available information.

In addition, the DOS is carrying out the Section 106 review process under Section 101(d)(6)(b) of the National Historic Preservation Act of 1966 through which it consults with any Indian tribe that attaches religious or cultural significance to historic properties that may be affected by construction of the Vantage Pipeline.

The EA is available to the public from the Web site http://vantagepipeline.state.gov/ and by mail. Following the 30-day public comment period, and after taking into account any comments received during that period, the DOS will decide whether to issue a Finding of No Significant Impact (FONSI) or proceed with further environmental review through an Environmental Impact Statement (EIS). To ensure that your comments are considered, please carefully follow the instructions detailed in the Public Participation section below.

Public Participation

You are encouraged to become involved in this process and provide your comments or concerns about the proposed project. As noted above, we are requesting comments on two aspects of the Vantage Pipeline Project. First, we request comments on the EA that focus on the potential environmental impacts of the project, reasonable alternatives, and measures to avoid or lessen environmental impacts. The EA is available on the DOS Web site for the project at http://vantagepipeline.state.gov/.

Second, we are requesting comments on whether this project is in the national interest. The determination of national interest involves consideration of many factors, which can include energy security, environmental, cultural, and economic impacts.

To ensure that we have the opportunity to consider your comments, please make sure that comments on one or both of these issues described above are postmarked by June 2, 2012.

For your convenience, there are two methods that you can use to submit your comments. In all instances please reference the project (i.e., Vantage) with your submission. We encourage electronic filing of comments.

(1) You may mail your comments to the following address: State Department Vantage Comments, 2020 Pennsylvania Avenue NW., Box #501, Washington, DC 20006.

(2) You may enter your comments directly on the DOS Web site at: http://vantagepipeline.state.gov/.

Environmental Mailing List

The DOS sends information related to this environmental review to individuals, organizations, and government entities interested in and/or potentially affected by the proposed project and maintains an environmental mailing list for this purpose. The environmental mailing list includes: Federal, state, and local government representatives and agencies; elected officials; environmental and public interest groups; Native American Tribes; other interested parties; and local libraries and newspapers. This list also includes all affected landowners who are potential right-of-way grantors, whose property may be used temporarily for project purposes, and anyone who submits comments on the project. The DOS will update the environmental mailing list as the analysis proceeds. If you would like to be included on the mailing list, please submit your address by accessing the DOS Web site at http://vantagepipeline.state.gov/.

Additional Information

The EA and related documents to be considered by the DOS in connection with this application, including environmental information and associated maps, are downloadable at: http://www.vantagepipeline.state.gov. The Vantage Pipeline Project toll free number is 1-877-918-6818 (United States).

Dated: Issued in Washington, DC on May 1, 2012.
George N. Sibley,
Director, Office of Environmental Policy, Bureau of Oceans and International Environmental and Scientific Affairs, U.S. Department of State.

[FR Doc. 2012-10812 Filed 5-2-12; 8:45 am]

BILLING CODE 4710-09-P